DEPARTMENT OF THE INTERIOR

National Park Service

Notice of Receipt of Application for Telecommunication Site

AGENCY: National Park Service, Theodore Roosevelt National Park.

ACTION: Notice of receipt of application for telecommunication site.

SUMMARY: (Authority: 47 U.S.C. 332 (Telecommunications Act of 1996); 16 U.S.C. 5; other applicable authorities and Director's Order 53).

Theodore Roosevelt National Park (THRO) has received an application from Verizon Wireless to rebuild the THRO's South Unit radio tower near Medora, North Dakota to accommodate Verizon Wireless equipment. The location of the proposed telecommunication site is Township 140 North, Range 102 West, W½ of the NW¼ of Section 16, Billings County, North Dakota. The proposed site may include a rebuilt tower not to exceed 180 feet in height, a 12′ x 30′ equipment building, and necessary utilities. The staff at THRO is currently evaluating the proposal and conducting a review and analysis pursuant to the National Environmental Policy Act (NEPA), the National Historic Preservation Act (NHPA), the Telecommunications Act of 1996, and National Park Service (NPS) requirements, policy and regulations. Once completed, the NEPA analysis, including the effects, if any, on cultural resources, will be available for public review at: http://www.nps.gov/thro, and at the NPS Planning, Environment, and Public Comment (PEPC) Web site at: http://parkplanning.nps.gov/publicHome.cfm. This Web site allows the public to review and comment directly on this document.

Comments: Comments on the proposal may be mailed to Theodore Roosevelt National Park, P.O. Box 7, Medora, North Dakota 58645, Attention Wireless Telecommunications Facility; by e-mail to thro_forum@nps.gov, or directly through the PEPC Web site.

DATES: Review and analysis pursuant to the NEPA and the NHPA are currently being conducted in the THRO and will be completed after June 2005. Once the analysis is complete, the NPS will make its findings available to the public and will notify the public, as appropriate, of additional steps they can take.

FOR FURTHER INFORMATION CONTACT: Superintendent, Theodore Roosevelt National Park; telephone 701-623-4466.

SUPPLEMENTARY INFORMATION: Copies of the NEPA analysis will be available at the Office of the Superintendent, Theodore Roosevelt National Park, online at the Theodore Roosevelt National Park Web site (http://www.nps.gov/thro), at the NPS Planning, Environment, and Public Comment (PEPC) Web site at: http://parkplanning.nps.gov/publicHome.cfm, or can be requested by writing to the Superintendent, Theodore Roosevelt National Park, P.O. Box 7, Medora, North Dakota 58645.

Dated: May 5, 2005.
Ernest Quintana,
Regional Director, Midwest Region.

[FR Doc. 05-11141 Filed 6-3-05; 8:45 am]

BILLING CODE 4310-70-P